DEPARTMENT OF THE INTERIOR

Bureau of Reclamation

Colorado River Basin Salinity Control Advisory Council

AGENCY: Bureau of Reclamation, Interior.

ACTION: Notice of public meeting.

SUMMARY: The Colorado River Basin Salinity Control Advisory Council (Council) was established by the Colorado River Basin Salinity Control Act of 1974 (P.L. 93-320) (Act) to receive reports and advise federal agencies on implementing the Act. In accordance with the Federal Advisory Committee Act, the Bureau of Reclamation announces that the Council will meet as detailed below.

DATES AND LOCATION: The Advisory Council will conduct its annual meeting at the following time and location:

Henderson, Nevada—October 26, 2000. The meeting will begin at 8 a.m. and recess at 12 noon and reconvene briefly the following day at about 1 p.m. The meeting will be held in the Sierra Room of the Henderson Convention Center at 200 Water Street in Henderson, Nevada.

Agenda: The purpose of the meeting will be to discuss the accomplishments of federal agencies and make recommendations on future activities to control salinity. Council members will be briefed on the status of salinity control activities and receive input for drafting the Council's annual report. The Department of the Interior, the Department of Agriculture, and the Environmental Protection Agency will each present a progress report and a schedule of activities on salinity control in the Colorado River Basin. The Council will discuss salinity control activities and the content of their report.

The meeting of the Council is open to the public. Any member of the public may file written statements with the Council before, during, or up to 30 days after the meeting, in person or by mail. To the extent that time permits, the Council chairman may allow public presentation of oral statements at the meeting. To allow full consideration of information by the Advisory Council members, written notice must be provided to David Trueman, Bureau of Reclamation, Upper Colorado Regional Office, 125 South State Street, Room 6107, Salt Lake City, Utah 84138-1102; telephone (801) 524-3753; faxogram (801) 524-5499; E-mail at: dtrueman@uc.usbr.gov at least FIVE (5) days prior to the meeting. Any written comments received will be provided to the Advisory Council members at the meeting.

FOR FURTHER INFORMATION CONTACT: David Trueman, telephone (801) 524-3753; faxogram (801) 524-5499; E-mail at: dtrueman@uc.usbr.gov.

Dated: September 29, 2000.
Eluid L. Martinez,
Commissioner, Bureau of Reclamation.

[FR Doc. 00-25458 Filed 10-3-00; 8:45 am]

BILLING CODE 4310-10-P